SECURITIES AND EXCHANGE COMMISSION

[File No. 500-1]

In the Matter of Oraco Resources, Inc., SaviCorp (a/k/a SaVi Media Group, Inc.), Smoky Market Foods, Inc., Soltera Mining Corp., and Wolverine Holding Corp. (a/k/a Mobility Plus Medical Equipment, Inc.); Order of Suspension of Trading

June 17, 2015.

It appears to the Securities and Exchange Commission (“Commission”) that there is a lack of current and accurate information concerning the securities of Oraco Resources, Inc. (“ORAC ¹”) (CIK No. 1490711), a Nevada corporation whose principal place of business is listed as Rochester, New York because it is delinquent in its periodic filings with the Commission, having not filed any periodic reports since it filed a Form 10-Q for the period ended September 30, 2012. As of June 10, 2015, ORAC's common stock was quoted on OTC Link (previously “Pink Sheets”) operated by OTC Markets Group Inc. (“OTC Link”). On June 6, 2014, the Commission's Division of Corporation Finance sent a delinquency letter to ORAC at the address shown in its then-most recent filing in the Commission's EDGAR system requesting compliance with its periodic filing requirements, which ORAC received on June 9, 2014. To date, ORAC has failed to cure its delinquencies.

¹ The short form of the issuer's name is also its ticker symbol.

It appears to the Securities and Exchange Commission (“Commission”) that there is a lack of current and accurate information concerning the securities of SaviCorp (a/k/a SaVi Media Group, Inc.) (“SVMI”) (CIK No. 1096637), a Nevada corporation whose principal place of business is listed as Santa Ana, California because it is delinquent in its periodic filings with the Commission, having not filed any periodic reports since it filed a Form 10-K for the period ended December 31, 2013. As of June 10, 2015, SVMI's common stock was quoted on OTC Link. On January 31, 2013, the Commission's Division of Corporation Finance sent a delinquency letter to SVMI at the address shown in its then-most recent filing in the Commission's EDGAR system requesting compliance with its periodic filing requirements, which SVMI received on February 4, 2013. To date, SVMI has failed to cure its delinquencies.

It appears to the Securities and Exchange Commission (“Commission”) that there is a lack of current and accurate information concerning the securities of Smoky Market Foods, Inc. (“SMKY”) (CIK No. 1370544), a Nevada corporation whose principal place of business is listed as Webster City, Iowa because it is delinquent in its periodic filings with the Commission, having not filed any periodic reports since it filed a Form 10-Q for the period ended September 30, 2014. As of June 10, 2015, SMKY's common stock was quoted on OTC Link. On September 16, 2014, the Commission's Division of Corporation Finance sent a delinquency letter to SMKY at the address shown in its then-most recent filing in the Commission's EDGAR system requesting compliance with its periodic filing requirements, which SMKY received on September 19, 2014. To date, SMKY has failed to cure its delinquencies.

It appears to the Securities and Exchange Commission (“Commission”) that there is a lack of current and accurate information concerning the securities of Soltera Mining Corp. (“SLTA”) (CIK No. 1348610), a defaulted Nevada corporation whose principal place of business is listed as Santa Ana, California because it is delinquent in its periodic filings with the Commission, having not filed any periodic reports since it filed a Form 10-K for the period ended October 31, 2013. As of June 10, 2015, SLTA's common stock was quoted on OTC Link. On March 19, 2015, the Commission's Division of Corporation Finance sent a delinquency letter to SLTA at the address shown in its then-most recent filing in the Commission's EDGAR system requesting compliance with its periodic filing requirements, which SLTA received on March 24, 2015. To date, SLTA has failed to cure its delinquencies.

It appears to the Securities and Exchange Commission (“Commission”) that there is a lack of current and accurate information concerning the securities of Wolverine Holding Corp. (a/k/a Mobility Plus Medical Equipment, Inc.) (“WLVH”) (CIK No. 18886), a Delaware corporation whose principal place of business is listed as Smyrna, Georgia because it is delinquent in its periodic filings with the Commission, having not filed any periodic reports since it filed a Form 10-Q for the period ended September 30, 2012. As of June 10, 2015, WLVH's common stock was quoted on OTC Link. On March 23, 2015, the Commission's Division of Corporation Finance sent a delinquency letter to WLVH at the address shown in its then-most recent filing in the Commission's EDGAR system requesting compliance with its periodic filing requirements, which WLVH failed to receive because the package was undeliverable as addressed and no forwarding address was available. WLVH thus failed to maintain a valid address on file with the Commission as required by Commission rules (Rule 301 of Regulation S-T, 17 CFR 232.301 and Section 5.4 of EDGAR Filer Manual). To date, WLVH has failed to cure its delinquencies.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 17, 2015, through 11:59 p.m. EDT on June 30, 2015.

By the Commission.
Jill M. Peterson,
Assistant Secretary.

[FR Doc. 2015-15221 Filed 6-17-15; 11:15 am]

BILLING CODE 8011-01-P